FEDERAL EMERGENCY MANAGEMENT AGENCY

Agency Information Collection Activities: Proposed Collection; Comment Request

ACTION: Notice and request for comments.

SUMMARY: The Federal Emergency Management Agency (FEMA), as part of its continuing efforts to reduce paperwork and respondent burden, invites the general public and other Federal agencies to take this opportunity to comment on proposed revised information collections. In accordance with the Paperwork Reduction Act of 1995 (44 U.S.C. 3506(c)(2)(A)), this notice seeks comments concerning FEMA's use a new form title Small Business Claim Notice and Proof of Loss (Cerro Grande Fire Assistance Act. The form will impact small businesses and other small entities; however, the impact of this collection will not be disproportionate to the impact on the general public. FEMA has established customer service offices and has provided business claims specialists to minimize the impact by assisting small business in completing the form. FEMA is requesting emergency processing approval of this collection, under the provisions of OMB regulation 5 CFR 1320.13, for 180 days, effective on or before July 5, 2001. A final OMB clearance package will be submitted to OMB for a long-term approval before the end of the assigned expiration date.

Supplementary Information: The Cerro Grande fire destroyed and damaged parts of Los Alamos and surrounding communities in May 2000. The Federal Government took responsibility for the Cerro Grande fire and enacted legislation known as the Cerro Grande Fire Assistance Act, Public Law 106-246 to compensate victims of the fire. Section 104(f) of the Act requires the Director, FEMA promulgate regulations for processing and paying claims under the Act. Subsections 104(b), (c), and (d) of the Act require that FEMA establish a process to receive, investigate, evaluate, determine and settle claims against the United States by victims of the Cerro Grande fire. FEMA's regulations to implement the Act is published at 44 CFR part 295, Disaster Assistance; Cerro Grande Fire Assistance; Final Rule (Federal Register Volume 66, Number 55, dated Wednesday, March 21, 2001, pages 15948-15966). The Small Business Claim Notice and Proof of Loss form is the only form that will be used for small business-loss claims to carry out the purposes of the Act.

Collection of Information

Title: Small Business Claim Notice and Proof of Loss.

Type of Information Collection: New collection.

Abstract: The form requests basic information identifying claimant(s) and describing their business loses in order to ascertain a claimant's eligibility for Cerro Grande fire claims assistance. The information is intended to be the only step for a business claimant who seeks compensation of $10,000 or less under the Cerro Grande Fire Assistance Act. It will be used by FEMA and other Federal agencies to determine whether a claimant has made the election of remedies—the CGFAA, the Federal Tort Claims Act, or a civil action authorized by any other law, and to track claims from the date received until the date of final payment. It will also be used to determine eligibility for compensation, evaluate the claim, and make payment. FEMA and contractors will be able to cross check against insurance subrogation claims and other payments and settlements to prevent duplication of benefits. The claimant's statements are made under penalty or perjury and subject claimants to the provisions of 18 U.S.C. section 1001 relating to false statements.

Affected Public: Business or other for-profit and not-for-profit institutions.

Number of Respondents: 1,250 annually.

Estimated Hour Burden Per Response: 30 minutes.

Estimated Total Annual Burden Hours. 625 hours.

Estimated Annual Cost To Respondents. We have estimated that the annualized cost to respondents for the hour burdens will be approximately $100 per respondent, on average. FEMA has offset this burden for most claimants by allowing claimants who successfully complete the process to an award to receive an additional 5% of their compensation, with a minimum of $100 to a maximum or $500 on this type of small business claim, for claims compensation expenses. Claimants who do not complete the claims process or who do not receive any compensation will not receive the claims preparation fee.

COMMENTS: Written comments are solicited to (a) evalute whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Send written comments to OMB within [insert date 30 days from the date of publication] of this notice. FEMA will continue to receive comments for an additional 30 days. Such comments should be submitted in writing to Muriel B. Anderson, Chief, Records Management Branch, Program Services Division, Operations Support Directorate, Federal Emergency Management Agency, 500 C Street, SW., Room 316, Washington, DC 20472. Telephone number (202) 646-2625, FAX number (202) 646-3347, and e-mail address: muriel.anderson&fema.gov.

ADDRESSES: Interested persons should submit written comments to the attention of the OMB Desk Officer for FEMA, Office of Information and Regulatory Affairs, Office of Management and Budget, 725 17th Street, NW., Room 10102, Washington, DC 20503.

FOR FURTHER INFORMATION CONTACT: Contact Ms. Anderson for copies of the proposed collection of information.

Dated: May 30, 2001.
Reginald Trujillo,
Director, Program Services Division, Operations Support Directorate.

[FR Doc. 01-14039 Filed 6-04-01; 8:45 am]

BILLING CODE 6748-01-M